DEPARTMENT OF TRANSPORTATION

Federal Aviation Administration

14 CFR Part 71

[Docket No. FAA-2016-8944; Airspace Docket No. 16-AGL-21]

RIN 2120-AA66

Proposed Modification and Establishment of Air Traffic Service (ATS) Routes; Northcentral United States

AGENCY: Federal Aviation Administration (FAA), DOT.

ACTION: Notice of proposed rulemaking (NPRM).

SUMMARY: This action proposes to modify one jet route and five VHF Omnidirectional Range (VOR) Federal airways, and establish three Area Navigation (RNAV) T-routes in the northcentral United States. The FAA is proposing this action due to the planned decommissioning of the Brainerd, MN (BRD), VHF Omnidirectional Range/Tactical Air Navigation (VORTAC) navigation aid (NAVAID), which provides navigation guidance for portions of the ATS routes proposed to be amended by this action. The T-routes proposed to be established by this action would mitigate potential issues to the National Airspace System (NAS) route structure that may be caused by the proposed ATS route amendments. Overall, this action would enhance the safety and efficient management of aircraft within the NAS.

DATES: Comments must be received on or before March 6, 2017.

ADDRESSES: Send comments on this proposal to the U.S. Department of Transportation, Docket Operations, 1200 New Jersey Avenue SE., West Building Ground Floor, Room W12-140, Washington, DC 20590; telephone: 1(800) 647-5527, or (202) 366-9826. You must identify FAA Docket No. FAA-2016-9319 and Airspace Docket No. 16-AGL-21 at the beginning of your comments. You may also submit comments through the Internet at http://www.regulations.gov. You may review the public docket containing the proposal, any comments received, and any final disposition in person in the Dockets Office between 9:00a.m. and 5:00 p.m., Monday through Friday, except Federal holidays. The Docket Office (telephone 1 (800) 647-5527), is on the ground floor of the building at the above address.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_offederal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the NAS route structure as necessary to preserve the safe and efficient flow of air traffic within the NAS.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2016-9319 and Airspace Docket No. 16-AGL-21) and be submitted in triplicate to the Docket Management Facility (see “ADDRESSES” section for address and phone number). You may also submit comments through the internet at http://www.regulations.gov.

Commenters wishing the FAA to acknowledge receipt of their comments on this action must submit with those comments a self-addressed, stamped postcard on which the following statement is made: “Comments to FAA Docket No. FAA-2016-9319 and Airspace Docket No. 16-AGL-21.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's Web page at http://www.faa.gov/air_traffic/publications/airspace_amendments/.

You may review the public docket containing the proposal, any comments received and any final disposition in person in the Dockets Office (see “ADDRESSES” section for address and phone number) between 9:00 a.m. and 5:00 p.m., Monday through Friday, except Federal holidays. An informal docket may also be examined during normal business hours at the office of the Operations Support Group, Central Service Center, Federal Aviation Administration, 10101 Hillwood Blvd., Fort Worth, TX, 76177.

Availability and Summary of Documents for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

Background

The FAA originally considered decommissioning activities for the Brainerd, MN (BRD), VOR would take place in 2019 as one of the candidate VORs identified for discontinuance by the VOR Minimum Operating Network (VOR MON) program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082. However, the lease for the property that the VOR is sited on is expiring in September 2017, and the FAA does not expect the lease to be renewed. As a result, the ATS routes that use the Brainerd, MN, VORTAC must be amended prior to the lease expiring. The affected ATS routes are Jet route J-25 and VOR Federal airways V-55, V-82, V-161, V-218, and V-413.

With the planned decommissioning of the Brainerd, MN, VORTAC, the remaining ground-based NAVAID coverage in the area is insufficient to enable the continuity of the affected airways. As such, proposed modifications to Jet route J-25 and VOR Federal airways V-55, V-82, V-161, V-218, and V-413 will result in gaps in the route structures. To overcome these gaps, the FAA is proposing to establish three new RNAV T-routes: T-330, T-354, and T-383.

The Proposal

The FAA is proposing an amendment to Title 14, Code of Federal Regulations (14 CFR) part 71 to amend Jet route J-25 and VOR Federal airways V-55, V-82, V-161, V-218, and V-413. Additionally, the FAA is also proposing to establish RNAV T-Routes T-330, T-354, and T-383. The planned decommissioning of the Brainerd VORTAC has made these actions necessary.

The proposed Jet route and VOR Federal airways changes are outlined below.

J-25: J-25 currently extends between the intersection of the United States/Mexico border and the Brownsville, TX (BRO), VORTAC 221° radial and the Winnipeg, MB, Canada (YWG), VORTAC. The FAA proposes to remove the route segment between the Gopher, MN (GEP), VORTAC and the Winnipeg, MB, Canada (YWG), VORTAC. The unaffected portion of the existing route would remain as charted.

V-55: V-55 currently extends between the Dayton, OH (DQN), VOR and the Bismarck, ND (BIS) VOR. The FAA proposes to remove the airway segment between the Siren, WI (RZN), VOR and the Park Rapids, MN (PKD), VOR. The unaffected portions of the existing airway would remain as charted in the two remaining segments.

V-82: V-82 currently extends between the Baudette, MN (BDE), VOR and the Dells, WI (DLL), VORTAC. The FAA proposes to remove the airway segment between the intersection of the Baudette, MN (BDE), VOR 194° and Brainerd, MN (BRD), VORTAC 331° radials (the BLUOX fix) and the Gopher, MN (GEP), VORTAC. Additionally, the BLUOX fix would be redefined in its existing location using radials from the Baudette, MN (BDE), VOR and the Park Rapids, MN (PKD) VOR. The unaffected portions of the existing airway would remain as charted in the two remaining segments.

V-161: V-161 currently extends between the Three Rivers, TX (ECA), VOR and the Winnipeg, MB, Canada (YWG), VORTAC. The FAA proposes to remove the airway segment between the Gopher, MN (GEP), VORTAC and the Grand Rapids, MN (GPZ), VOR. Additionally, the airway segment between the Grand Rapids, MN (GPZ), VOR and the International Falls, MN (INL), VORTAC would be re-designated as part of V-218. The unaffected portions of the existing airway would remain as charted in the two remaining segments.

V-218: V-218 currently extends between the Grand Rapids, MN (GPZ), VOR and the Lansing, MI (LAN), VORTAC. The FAA proposes to add the V-161 airway segment between the Grand Rapids, MN (GPZ), VOR and the International Falls, MN (INL), VORTAC to V-218. The existing V-218 airway will remain as charted with the addition of the airway segment from the International Falls, MN (INL), VORTAC to the Grand Rapids, MN (GPZ), VOR included so the airway segments remain listed in a west to east order.

V-413: V-413 currently extends between the Ironwood, MI (IWD), VORTAC and Brainerd, MN (BRD), VORTAC. The FAA proposes to remove the airway segment between the Gopher, MN (GEP), VORTAC and the Brainerd, MN (BRD), VORTAC. The unaffected portion of the existing airway will remain as charted. Additionally, the airway description for the amended airway would be reversed to reflect from the Gopher, MN (GEP), VORTAC to the Ironwood, MI (IWD), VORTAC to list the airway segments in a south to north order consistent with odd numbered ATS route criteria.

The proposed RNAV T-routes to be established are outlined below.

T-330: T-330 would be established from the Grand Forks, MN (GFK), VOR to the Gopher, MN (GEP), VORTAC. This new RNAV T-route would extend over two existing fixes (WATAM, MN, and DAYLE, MN) and three new waypoints (BYZIN, ND; TAMMR, MN; and MAFLN, MN) being established. This T-route would mitigate the loss of portions of V-55 and V-413 airway segments as proposed and would provide RNAV T-route capability and connectivity with a more direct routing between the Grand Forks, ND, and Minneapolis, MN, terminal areas.

T-354: T-354 would be established from the Park Rapids, MN (PKD), VOR to the Siren, WI (RZN), VOR. This new RNAV T-route would extend over a new waypoint (named BRNRD) that is being established over the existing location of the Brainerd, MN (BRD), VORTAC. This T-route would mitigate the loss of the V-55 airway segment proposed to be removed.

T-383: T-383 would be established from the Gopher, MN (GEP), VORTAC to the BLUOX, MN, fix that would be redefined in its existing location using radials from the Baudette, MN (BDE), VOR and the Park Rapids, MN (PKD), VOR. This new RNAV T-route would also extend over the new waypoint (BRNRD) that is being established over the existing location of the Brainerd, MN (BRD), VORTAC. This T-route would mitigate the loss of the V-82 and V-413 airway segments proposed to be removed.

All radials in the route descriptions below that do not reflect True (T)/Magnetic (M) degree radial information are unchanged and stated in True degrees.

Jet routes are published in paragraph 2004, VOR Federal airways are published in paragraph 6010(a), and United States Area Navigation Routes (low altitude T-routes) are published in paragraph 6011, of FAA Order 7400.11A dated August 3, 2016, and effective September 15, 2016, which is incorporated by reference in 14 CFR 71.1. The Jet routes, VOR Federal airways, and RNAV T-routes listed in this document would be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 2004 Jet Routes.

* * * * *

J-25 [Amended]

From INT United States/Mexico border and Brownsville, TX, 221° radial; Brownsville; INT Brownsville 358° and Corpus Christi, TX, 178° radials; Corpus Christi; INT Corpus Christi 311° and San Antonio, TX, 174° radials; San Antonio; Centex, TX; Waco, TX; Ranger, TX; Tulsa, OK; Kansas City, MO; Des Moines, IA; Mason City, IA; to Gopher, MN.

* * * * *

Paragraph 6010 Domestic VOR Federal Airways.

* * * * *

V-55 [Amended]

From Dayton, OH; Fort Wayne, IN; Goshen, IN; Gipper, MI; Keeler, MI; Pullman, MI; Muskegon, MI; INT Muskegon 327° and Green Bay, WI, 116° radials; Green Bay; Stevens Point, WI; INT Stevens Point 281° and Eau Claire, WI, 107° radials; Eau Claire; to Siren, WI. From Park Rapids, MN; Grand Forks, ND; INT Grand Forks 239° and Bismarck, ND, 067° radials; to Bismarck.

* * * * *

V-82 [Amended]

From Baudette, MN; to INT Baudette 194° and Park Rapids, MN, 003°T/359°M radials. From Gopher, MN; Farmington, MN; Rochester, MN; Nodine, MN; to Dells, WI.

* * * * *

V-161 [Amended]

From Three Rivers, TX; Center Point, TX; Llano, TX; INT Llano 026° and Millsap, TX, 193° radials; Millsap; Bowie, TX; Ardmore, OK; Okmulgee, OK; Tulsa, OK; Oswego, KS; Butler, MO; Napoleon, MO; Lamoni, IA; Des Moines, IA; Mason City, IA; Rochester, MN; Farmington, MN; to Gopher, MN. From International Falls, MN; to Winnipeg, MB, Canada, excluding the airspace within Canada.

* * * * *

V-218 [Amended]

From International Falls, MN; Grand Rapids, MN; Gopher, MN; Waukon, IA; to Rockford, IL. From Keeler, MI; to Lansing, MI.

* * * * *

V-413 [Amended]

From Gopher, MN; INT Gopher 109° and Eau Claire, WI, 269° radials; Eau Claire; to Ironwood, MI.

* * * * *

Paragraph 6011 United States Area Navigation Routes.

* * * * *

T-330 Grand Forks, ND (GFK) to Gopher, MN (GEP) [New]
Grand Forks, ND (GFK) | VOR/DME | (Lat. 47°57'17.39” N., long. 097°11'07.33” W.)
BYZIN, ND | WP | (Lat. 47°29'03.97”N., long. 096°13'28.09”W.)
TAMMR, MN | WP | (Lat. 46°53'33.48”N., long. 095°42'56.42”W.)
WATAM, MN | FIX | (Lat. 46°25'52.91”N., long. 095°09'06.92”W.)
MAFLN, MN | WP | (Lat. 46°02'22.73”N., long. 094°37'21.86”W.)
DAYLE, MN | FIX | (Lat. 45°37'24.75”N., long. 093°55'34.20”W.)
Gopher, MN (GEP) | VORTAC | (Lat. 45°08'44.47”N., long. 093°22'23.45”W.)
* * * * * * *
T-354 Park Rapids, MN (PKD) to Siren, WI (RZN) [New]
Park Rapids, MN (PKD) | VOR/DME | (Lat. 46°53'53.34”N., long. 095°04'15.21”W.)
BRNRD, MN | WP | (Lat. 46°20'53.81”N., long. 094°01'33.54”W.)
Siren, WI (RZN) | VOR/DME | (Lat. 45°49'13.60”N., long. 092°22'28.26”W.)
* * * * * * *
T-383 Gopher, MN (GEP) to BLUOX, MN [New]
Gopher, MN (GEP) | VORTAC | (Lat. 45°08'44.47”N., long. 093°22'23.45”W.)
BRNRD, MN | WP | (Lat. 46°20'53.81”N., long. 094°01'33.54”W.)
BLUOX, MN | FIX | (Lat. 47°34'33.13” N., long. 095°01'29.11” W.)
* * * * * * *

Issued in Washington, DC, on January 10, 2017.
Leslie M. Swann,
Acting Manager, Airspace Policy Group.

[FR Doc. 2017-01034 Filed 1-18-17; 8:45 am]

BILLING CODE 4910-13-P